SECURITIES AND EXCHANGE COMMISSION

17 CFR Parts 230, 232, 239, 270, and 274

[Release No. 33-11238A; 34-98438A; IC-35000A; File No. S7-16-22]

RIN 3235-AM72

Investment Company Names; Correction

AGENCY: Securities and Exchange Commission.

ACTION: Final rule; correction.

SUMMARY: This document makes a technical correction to the preamble accompanying amendments to the rule under the Investment Company Act of 1940 that addresses certain broad categories of investment company names that are likely to mislead investors about an investment company's investments and risks, as adopted in Release No. IC-35000 (September 20, 2023), which was published in the Federal Register on October 11, 2023.

DATES: Effective December 11, 2023.

FOR FURTHER INFORMATION CONTACT: Mykaila DeLesDernier, Senior Counsel; Amanda Wagner, Senior Special Counsel; or Brian McLaughlin Johnson, Assistant Director, at (202) 551-6792, Investment Company Regulation Office, Division of Investment Management, Securities and Exchange Commission, 100 F Street NE, Washington, DC 20549-8549.

SUPPLEMENTARY INFORMATION: We are making a technical amendment to correct the preamble to Release No. IC-35000. Specifically, in FR doc. 2023-20793, which was published in the Federal Register on October 11, 2023, at 88 FR 70436, the following corrections are made:

1. On page 70476, in the second column, revising the first sentence of the first full paragraph to read as follows: “The compliance date for the final amendments is December 11, 2025, for larger entities, and June 11, 2026, for smaller entities.” ⁴³⁴

2. On page 70493, in the first column, first full paragraph, revising the second to last sentence of that paragraph to read as follows: “The compliance periods for the rules mentioned by commenters, the Shareholder Reports Final Rule and the Money Market Funds Final Rule,⁵⁹⁸ culminate in approximately July-October 2024 while the compliance dates for the final rule are December 11, 2025, for larger entities, and June 11, 2026, for smaller entities.”

Dated: October 24, 2023.
Vanessa A. Countryman,
Secretary.

[FR Doc. 2023-23778 Filed 10-26-23; 8:45 am]

BILLING CODE 8011-01-P